ENVIRONMENTAL PROTECTION AGENCY

[FRL 10813-01-OAR]

Transfer of Information Claimed as Confidential Business Information to the United States Department of Energy/Argonne National Laboratory

AGENCY: Environmental Protection Agency (EPA).

ACTION: Notice.

SUMMARY: This notice announces that information submitted to EPA's Office of Air and Radiation (OAR) pursuant to the Clean Air Act (CAA), including information that may have been claimed as Confidential Business Information (CBI) by the submitter, will be transferred to Argonne National Laboratory (ANL)/Department of Energy (DOE). ANL/DOE have been awarded a contract to perform work for OAR, and access to this information will enable ANL/DOE to fulfill the obligations of the contract.

DATES: Access by ANL/DOE to material, including CBI, discussed in this Notice, is ongoing and expected to continue beginning April 17, 2023.

FOR FURTHER INFORMATION CONTACT: Aaron Sobel, Transportation and Climate Division, Office of Transportation and Air Quality (OTAQ), Office of Air and Radiation (OAR) (5512S); telephone number: 202-564-0543; fax number: 202-343-2801; email address: sobel.aaron@epa.gov.

SUPPLEMENTARY INFORMATION: The Environmental Protection Agency (EPA) is providing notice of disclosure pursuant to 40 CFR 2.209(c). Under Contract No. DW-089-92568801-0, ANL/DOE will perform lifecycle analysis modeling with the Greenhouse gases, Regulated Emissions, and Energy use in Technologies (GREET) Model.

OTAQ has determined that access by ANL/DOE to information is necessary for the performance of this contract. EPA conducts lifecycle greenhouse gas analysis of biofuel pathways in support of implementing the Renewable Fuel Standards (RFS) program under section 211(o) of the Clean Air Act. This includes reviewing petitions submitted pursuant to 40 CFR 80.1416, some of which include data claimed as confidential business information. To evaluate these pathway petitions, EPA intends to provide data critical to evaluating the lifecycle greenhouse gas emissions associated with these biofuel pathway petitions to ANL/DOE. Examples of the type of information to be shared include agricultural practice data such as crop yields and nutrient input data, anticipated biofuel facility operational data such as energy sources and amounts used for processing feedstocks into fuels, and detailed descriptions of these processes to help practitioners understand the overall biofuel pathways being proposed by stakeholders. Some of this information may be entitled to confidential treatment. The information has been submitted to EPA under section 211(o) of the Clean Air Act.

Records of information provided to ANL/DOE will be maintained by EPA Project Officers for this contract. All information supplied to ANL/DOE by EPA for use in connection with this contract will be returned to EPA when ANL/DOE have completed their work.

Dated: April 3, 2023.
Karl Simon,
Director, Transportation and Climate Division.

[FR Doc. 2023-07295 Filed 4-6-23; 8:45 am]

BILLING CODE 6560-50-P